DEPARTMENT OF TRANSPORTATION

Federal Highway Administration

Environmental Impact Statement: Washington County, UT

AGENCY: Federal Highway Administration (FHWA), DOT.

ACTION: Notice of intent.

SUMMARY: The FHWA is issuing this notice to advise the public that an environmental impact statement will be prepared for a proposed highway project in Washington County, Utah.

FOR FURTHER INFORMATION CONTACT: Sandra Garcia, Highway Engineer, Federal Highway Administration, 2520 West 4700 South, Suite 9A, Salt Lake City, Utah 84118-1847, Telephone (801) 963-0182.

SUPPLEMENTARY INFORMATION: The FHWA, in cooperation with the Utah Department of Transportation (UDOT), will prepare an environmental impact statement (EIS) on a proposal to construct a new interchange on I-15 at milepost 13 in Washington City, Utah.

The construction of a new interchange is considered necessary to provide access to I-15, which will accommodate the projected traffic demand and development planned for the area. Alternatives under consideration include (1) taking no action; (2) Transportation System Management (TSM), activities which maximize the efficiency of the present system; (3) constructing a new interchange on I-15 at milepost 13.

Letters describing the proposed action and soliciting comments will be sent to appropriate Federal, State, and local agencies, and to private organizations and citizens who have previously expressed or are known to have interest in this proposal. A public scoping meeting and a public hearing will be held. Notice will be given of the time and place of the meetings and hearing. The draft EIS will be available for public and agency review and comment prior to the public hearing.

To ensure that the full range of issues related to this proposed action are addressed and all significant issues identified, comments and suggestions are invited from all interested parties. Comments or questions concerning this proposed action and the EIS should be directed to the FHWA at the address provided above.

(Catalog of Federal Domestic Assistance Program Number 20.205, Highway Research, Planning and Construction. The regulations implementing Executive Order 12372 regarding intergovernmental consultation on Federal programs and activities apply to this program.)

Issued on: August 9, 2001.
William R. Gedris,
Highway Engineer.

[FR Doc. 01-20480 Filed 8-14-01; 8:45 am]

BILLING CODE 4910-22-M